DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Maternal and Child Health Services Title V Block Grant Program Guidance and Forms for the Title V Application/Annual Report (OMB No. 0915-0172)—[Revision]

The Health Resources and Services Administration (HRSA) proposes to revise the Maternal and Child Health Services Title V Block Grant Program—Guidance and Forms for the Application/Annual Report. The guidance is used annually by the 50 states and 9 jurisdictions in making application for Block Grants under Title V of the Social Security Act and in preparing the required annual report. The proposed revisions follow and build on extensive consultation received from a workgroup convened to provide suggestions to improve the guidance and forms.

The changes in this edition of the Maternal and Child Health Services Title V Block Grant Program Guidance and Forms for the Title V Application/Annual Report include the following proposed revisions: (1) The requirements for reporting on the health status indicators and health systems capacity indicators were rewritten to reduce the reporting burden to the states; (2) instructions for completing Form 7, Number of Individuals Served, have been clarified to assist states in more accurately estimating the number of individuals who receive Title V services; (3) a resource tool has been added to assist states in assessing the level of family participation in Children with Special Health Care Needs Programs (Form 13); and (4) the detail sheets for the performance measures, outcome measures, health systems capacity indicators and health status indicators have been updated with corresponding Healthy People 2020 Objectives. In addition, efficiencies through use of the electronic application are identified for states to reduce their efforts in completing the application.

The estimated average annual burden is as follows:

Reporting document | Number of respondents | Responses per respondent | Total responses | Burden per response | Total burden hours
Application and Report without Needs Assessment (2012, 2013 & 2014) | 59 | 1 | 59 | 246 | 14,514
Total | 59 | 1 | 59 | 246 | 14,514

E-mail comments to paperwork@hrsa.gov or mail the HRSA Reports Clearance Officer, Room 10-33, Parklawn Building, 5600 Fishers Lane, Rockville, MD 20857. Written comments should be received within 60 days of this notice.

Dated: July 13, 2011.
Reva Harris,
Acting Director, Division of Policy and Information Coordination.

[FR Doc. 2011-18105 Filed 7-18-11; 8:45 am]

BILLING CODE 4165-15-P